FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 011383-048.

Title: Venezuelan Discussion Agreement.

Parties: Hamburg-Süd; King Ocean Services Limited, Inc.; and Seaboard Marine Ltd.

Filing Party: Wayne R. Rohde, Esq.; Cozen O'Conner; 1200 19th Street NW., Washington, DC 20036.

Synopsis: The amendment deletes Seafreight Line, Ltd. as a party to the Agreement.

By Order of the Federal Maritime Commission.
Dated: October 13, 2017.
JoAnne D. O'Bryant,
Program Analyst.

[FR Doc. 2017-22624 Filed 10-17-17; 8:45 am]

BILLING CODE 6731-AA-P